CORPORATION FOR NATIONAL AND COMMUNITY SERVICE

New Information Collection; Submission for OMB Review; Comment Request

AGENCY: Corporation for National and Community Service

ACTION: Notice.

The Corporation for National and Community Service (hereinafter the “Corporation”) has submitted the following public information collection request (ICR) to the Office of Management and Budget (OMB) for review and approval in accordance with the Paperwork Reduction Act of 1995 (Public Law 104-13, (44 U.S.C. Chapter 35)). Copies of these individual ICRs, with applicable supporting documentation, may be obtained by calling the Corporation, Tracy Stone, Director, AmeriCorps Promise Fellows, (202) 606-5000, extension 173. Individuals who use a telecommunications device for the deaf (TTY-TDD) may call (202) 565-2799 between 8:30 a.m. and 5:00 p.m. Eastern time, Monday through Friday.

Comments should be sent to the Office of Information and Regulatory Affairs, Attn: OMB Desk Officer for the Corporation for National and Community Service, Office of Information and Regultory Affairs (OIRA), Room 10235, Washington, D.C. 20503, (202) 395-6466, within 30 days from the date of this publication in the Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including through the use of appropriate automated, electronic, mechanical, or other technological collection techniques or other forms of information technology, e.g., permitting electronic submissions of responses.

Description: The AmeriCorps Promise Fellows program supports a leadership cadre of AmeriCorps members spearheading community efforts to provide young people with five basic promises:

• Caring adults in their lives as parents, mentors, tutors, and coaches;

• Safe places with structured activities in which to learn and grow;

• A healthy start;

• An effective education that equips them with marketable skills; and

• An opportunity to give back to communities through their own service.

The AmeriCorps Promise Fellows Continuation Application Instructions provide the requirements, instructions and forms that current grantees of the program need to complete an application to the Corporation for continued funding.

The Corporation seeks public comment on the forms, the instructions for the forms, and the instructions for the narrative portion of these continuation application instructions.

Type of Review: New collection.

Agency: Corporation for National and Community Service.

Title: AmeriCorps Promise Fellows Continuation Application Instructions.

OMB Number: None.

Agency Number: None.

Affected Public: Entities in their first or second year of operation as grantees of the Corporation's AmeriCorps Promise Fellows program.

Total Respondents: 66.

Frequency: Once per year.

Average Time Per Response: 25 hours.

Estimated Total Burden Hours: 1,650 hours.

Total Burden Cost (capital/startup): None.

Total Burden Cost (operating/maintenance): None.

Dated: June 6, 2000.
Tracy Stone,
Director, AmeriCorps Promise Fellows.

[FR Doc. 00-14695 Filed 6-9-00; 8:45 am]

BILLING CODE 6050-28-U